DEPARTMENT OF COMMERCE

National Oceanic and Atmospheric Administration

RIN 0648-XF542

Fisheries of the Caribbean, Gulf of Mexico, and South Atlantic; Snapper-Grouper Fishery Off the South Atlantic States; Amendment 43

AGENCY: National Marine Fisheries Service (NMFS), National Oceanic and Atmospheric Administration (NOAA), Commerce.

ACTION: Notice announcing the preparation of an environmental assessment (EA).

SUMMARY: The NMFS Southeast Region, in collaboration with the South Atlantic Fishery Management Council (Council), is preparing an EA in accordance with the National Environmental Policy Act (NEPA) for Amendment 43 to the Fishery Management Plan (FMP) for the Snapper-Grouper Fishery of the South Atlantic Region (Amendment 43). This notice is intended to inform the public of the change from the preparation of a draft environmental impact statement (EIS) to an EA for Amendment 43. Additionally, this notice serves to announce the change of the scope of actions being considered in Amendment 43 by the Council. The purpose of Amendment 43 is to revise annual catch limits (ACLs) for red snapper in the South Atlantic to provide fishing access while preventing overfishing.

FOR FURTHER INFORMATION CONTACT: Frank Helies, NMFS Southeast Regional Office, telephone: 727-824-5305; or email: frank.helies@noaa.gov.

SUPPLEMENTARY INFORMATION: According to the most recent stock assessment, the red snapper stock in the South Atlantic is undergoing overfishing and is overfished (2016 Southeast Data, Assessment, and Review (SEDAR) 41). Currently, the commercial and recreational ACLs are set at zero and red snapper seasons are determined through an annual process established in Amendment 28 to the FMP (78 FR 44461, July 24, 2013). Red snapper removals (total landings and dead discards) in the 2014, 2015, and 2016 fishing years exceeded the stock's acceptable biological catch and therefore harvest and possession of red snapper was not allowed in the 2015, 2016, or 2017 fishing years. Despite the overfishing determination resulting from SEDAR 41, NMFS notified the Council in March 2017, that adequate management action has been taken to address overfishing and continue to rebuild the stock through the harvest prohibition in 2015 and 2016.

On January 6, 2017, NMFS published a notice of intent (NOI) in the Federal Register to prepare a draft EIS for Amendment 43 (82 FR 1720). As originally developed, Amendment 43 considered changes to commercial and recreational ACLs and the recreational annual catch target by modifying the annual process in Amendment 28. Amendment 43 also included actions to modify red snapper management reference points, establish seasonal and area closures, reduce discard mortality, and improve the quantity and quality of data collected from recreational fishermen. NMFS also announced scoping meeting dates, times, and locations that were scheduled to occur in January and February 2017.

In June 2017, the Council decided to reduce the scope of actions considered in Amendment 43. The amendment now would only modify the process implemented through Amendment 28 by revising the process to determine the commercial and recreational ACLs for red snapper. The Council may consider the other actions specified in the NOI in a future amendment. The scope of Amendment 43 was reconsidered by the Council to increase the likelihood that the revised ACL action in the amendment would be implemented by the red snapper commercial and recreational season starting dates in July 2018.

Consequently, NMFS reassessed the action in the amendment relative to NEPA. Based on the reduced scope of actions being considered in Amendment 43, NMFS, in collaboration with the Council, will develop an EA rather than proceeding with the development of a draft EIS. If the EA results in a Finding of No Significant Impact (FONSI), the EA and FONSI will be the final environmental documents prepared to inform this decision. If the EA reveals that significant environmental impacts may be reasonably expected to result from the proposed actions, NMFS and the Council will develop a draft EIS to further evaluate those impacts. The Council will hold public hearings to discuss the actions included in Amendment 43 in webinars in August 2017, and will take public comment on the document at the September 2017, Council meeting in Charleston, SC. Exact dates, times, and locations of any future public hearings will be announced by the Council. A copy of the Amendment 43 draft options paper is available at: http://sero.nmfs.noaa.gov/sustainable_fisheries/s_atl/sg/index.html.

NMFS will announce, through a document published in the Federal Register, all public comment periods on the final amendment, its proposed implementing regulations, and the availability of its associated EA. NMFS will consider all public comments received during the Secretarial review period, whether they are on the final amendment, the proposed regulations, or the EA, prior to final agency action.

Authority: 16 U.S.C. 1801 et seq.

Dated: August 7, 2017.
Emily H. Menashes,
Acting Director, Office of Sustainable Fisheries, National Marine Fisheries Service.

[FR Doc. 2017-16894 Filed 8-9-17; 8:45 am]

BILLING CODE 3510-22-P